DEPARTMENT OF THE INTERIOR

Fish and Wildlife Service

Information Collection To Be Submitted to the Office of Management and Budget (OMB) for Approval Under the Paperwork Reduction Act; National Survey of Fishing, Hunting, and Wildlife-Associated Recreation

AGENCY: Fish and Wildlife Service, Interior.

ACTION: Notice; request for comments.

SUMMARY: The Fish and Wildlife Service (we) plans to submit the collection of information described below to OMB for approval under the provisions of the Paperwork Reduction Act of 1995. The information collected for the National Survey of Fishing, Hunting, and Wildlife-Associated Recreation (FHWAR Survey) is needed to assist Federal and State agencies in administering the Sport Fish and Wildlife Restoration grant programs. The 2006 FHWAR Survey will provide up-to-date information on the uses and demands for wildlife-related recreation resources, trends in uses of those resources, and a basis for developing and evaluating programs and projects to meet existing and future needs. We have conducted this survey every 5 years since 1955.

DATES: You must submit comments on or before January 25, 2005.

ADDRESSES: Send your comments on this information collection to Hope Grey, Information Collection Clearance Officer, Fish and Wildlife Service, MS 222-ARLSQ, 4401 North Fairfax Drive, Arlington, VA 22203; hope_grey@fws.gov (e-mail); or (703) 358-2269 (fax).

FOR FURTHER INFORMATION CONTACT: To request a copy of the information collection requirements, explanatory information, or related materials, contact Hope Grey at (703) 358-2482 or e-mail hope_grey@fws.gov.

SUPPLEMENTARY INFORMATION: The Office of Management and Budget regulations at 5 CFR 1320, which implement provisions of the Paperwork Reduction Act of 1995 (44 U.S.C. 3501 et seq.), require that interested members of the public and affected agencies have an opportunity to comment on information collection and recordkeeping activities (see 5 CFR 1320.8(d)).

We plan to send a request to OMB for approval of the information collection requirements for the 2006 FHWAR Survey. We are requesting a 3-year term of approval for this information collection activity. Federal agencies may not conduct or sponsor and a person is not required to respond to a collection of information unless it displays a currently valid OMB control number.

The OMB control number for previous collections of this information was 1018-0088. We collect the information in conjunction with carrying out our responsibilities under the Federal Aid in Sport Fish Restoration Act (16 U.S.C. 777-777M) commonly referred to as the Dingell-Johnson Act, and the Federal Aid in Wildlife Restoration Act (16 U.S.C. 669-669i) commonly referred to as the Pitman-Robertson Act. Under these acts, as amended, we provide approximately $500 million in grants annually to States for projects to support sport fish and wildlife management and restoration, including the improvement of fish and wildlife habitats, fishing and boating access, fish stocking, and hunting and fishing opportunities. We also provide grants for aquatic education and hunter education, maintenance of completed projects, and research into the problems affecting fish and wildlife resources. These projects help to ensure that the American people have adequate opportunities for fish and wildlife recreation.

The 2006 FHWAR Survey will be the 11th conducted since 1955. We sponsor the survey requested by the States through the International Association of Fish and Wildlife Agencies. The Bureau of the Census collects the information using computer-assisted telephone or in-person interviews. A sample of sportsmen and wildlife watchers will be selected from a household screen. Sample persons will be asked about their participation and expenditures. Three detailed interviews will be conducted during the survey year. The 2006 FHWAR Survey will be similar in scope to past surveys. It will generate information identified as priority data needed by the Federal and State agencies responsible for administering the Sport Fish and Wildlife Restoration grant programs. Accordingly, the 2006 FHWAR Survey will produce a comprehensive database of fish and wildlife related recreation activities and expenditures. It will include the number of persons participating in different types of activities such as freshwater, saltwater, and Great Lakes fishing, and big game, small game, migratory bird, and other animal hunting. Wildlife-watching activities include wildlife observation, feeding, and photographing around the home and on trips away from home. Information is collected on days of participation, species of animals sought, and how much money was spent on trips and for equipment. Information on the characteristics of participants include age, income, sex, education, race, and residency. The survey data has State level reliability. Federal and State agencies use information from the survey to formulate management and policy decisions related to fish and wildlife restoration and management. Participation patterns and trend information assist in identifying present and future needs and demands. The information is used for planning the acquisition, development, and enhancement of resources for the benefit of wildlife-related recreation. Land managing agencies use the data on expenditures, economic evaluation, and participation to assess the value of wildlife-related recreational uses of natural resources. States use expenditure information to estimate the economic impact of wildlife-related recreation expenditures on their economies and to support the dedication of tax revenues for fish and wildlife restoration programs. The information collected on resident saltwater fishing assists coastal States in determining the proper ratio for allocating funds between freshwater and saltwater projects as required by the Federal Aid in Sport Fish Restoration Act, as amended. The information is not readily available elsewhere because few States have saltwater licenses or conduct their own surveys. If the 2006 FHWAR Survey data were not available, it would impair the ability of those States to meet their obligations under the Act.

Title: National Survey of Fishing, Hunting, and Wildlife-Associated Recreation.

OMB Control Number: 1018-0088.

Form Number: None.

Frequency: Household screen interviews and the first detailed sportsmen and wildlife-watchers interviews will be conducted April-June 2006. The second detailed interviews will be conducted September-October 2006. The third and last detailed interviews will be conducted January-March 2007.

Description of Respondents: Individuals.

Total Annual Burden Hours: 32,254 hours.

Total Annual Responses: 95,000 respondents.

| Estimated number of household responses | Average time per household (minutes) | Estimated number of participant responses | Average respondent time (minutes) | Total burden (hours)
Screen | * 76,000 | 7 |  |  | 8,867
Screen Reinterview ** | 3,800 | 5 |  |  | 317
Hunting & Fishing:
1st interview |  |  | 12,000 | 15 | 3,000
2nd interview |  |  | 24,000 | 10 | 4,000
3rd interview |  |  | 36,000 | 15 | 9,000
Reinterview |  |  | 2,000 | 5 | 167
Wildlife Watching:
1st interview |  |  | 7,200 | 11 | 1,320
2nd interview |  |  | 12,000 | 11 | 2,200
3rd interview |  |  | 18,000 | 11 | 3,300
Reinterview |  |  | 1000 | 5 | 83
Total | 79,800 | 6.9 | 112,200 | 12.3 | 32,254
* The estimated number of respondents reached from a sample of households will be 76,000. About 50 percent, or 38,000, of those respondents will sample in and receive a detailed interview. An additional 50 percent of those households where one person is sampled (19,000) will have a second person screened in for interviews. We estimate the total number of respondents to be 95,000 (76,000 + 19,000).
** Of the survey respondents, 5 percent from the screener workload and 6 percent from the third interview sportsmen and wildlife-watching user workloads are reinterviewed by another Census interviewer using a subset of the regular questionnaire. These reinterview responses are compared to the responses of the full interview as a quality control measure.

The total number of respondents can be calculated by adding up the household and participant responses and subtracting the reinterviews and the third interviews. There is some wave 1 and wave 2 overlap.

We expect the burden to be about 15 minutes for the sportsmen and 11 minutes for the wildlife-watching participants. We base the estimate for interview length on the 2001 survey and experience with similar surveys conducted within the past year. The combined total estimated hours of respondent burden is 32,254.

We invite your comments on: (1) Whether or not the collection of information is necessary for the proper performance of the functions of the agency including whether or not the information will have practical utility; (2) the accuracy of the agency's estimate of the burden of the collection information; (3) ways to enhance the quality, utility and clarity of the information to be collected; and (4) ways to minimize the burden of the collection of information on respondents.

Dated: November 8, 2004.
Hope Grey,
Information Collection Clearance Officer, Fish and Wildlife Service.

[FR Doc. 04-26178 Filed 11-24-04; 8:45 am]

BILLING CODE 4310-55-P